DEPARTMENT OF COMMERCE

National Oceanic and Atmospheric Administration

RIN 0648-XP33

Marine Mammals; File No. 14352

AGENCY: National Marine Fisheries Service (NMFS), National Oceanic and Atmospheric Administration (NOAA), Commerce.

ACTION: Notice; receipt of application.

SUMMARY: Notice is hereby given that Dr. Gregory Bossart, Georgia Aquarium, 225 Baker Street, NW, Atlanta, Georgia 30313, has applied in due form for a permit to conduct research on bottlenose dolphins (Tursiops truncatus).

DATES: Written, telefaxed, or e-mail comments must be received on or before June 19, 2009.

ADDRESSES: The application and related documents are available for review by selecting “Records Open for Public Comment” from the Features box on the Applications and Permits for Protected Species (APPS) home page, https://apps.nmfs.noaa.gov, and then selecting File No. 14352 from the list of available applications.

These documents are also available upon written request or by appointment in the following office(s):

Permits, Conservation and Education Division, Office of Protected Resources, NMFS, 1315 East-West Highway, Room 13705, Silver Spring, MD 20910; phone (301) 713-2289; fax (301) 427-2521;

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 427-2521, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Carrie Hubard or Kristy Beard, (301)713-2289.

SUPPLEMENTARY INFORMATION: The subject permit is requested under the authority of the Marine Mammal Protection Act of 1972, as amended (MMPA; 16 U.S.C. 1361 et seq.), and the regulations governing the taking and importing of marine mammals (50 CFR part 216).

The applicant proposes to conduct health assessments of bottlenose dolphins in Florida's Indian River Lagoon system by capturing, sampling, and releasing up to 40 dolphins per year. Females with calves less than one year old would not be captured. Captured dolphins would receive a complete clinical workup including: measurements, weight, photographs, sample collection, freeze brand, and ultrasound. All captured animals would receive a roto tag. Up to ten animals per year would also receive a VHF tag. An experienced veterinarian would be on site during captures and the dolphins' vital signs would be closely monitored. Processing would take about forty minutes. Individual dolphins would only be sampled once per year. Samples would be analyzed to examine a variety of health topics such as: infectious diseases, immune status, contaminant exposure, antibiotic resistance, and genetics. An additional 400 dolphins per year may be harassed during pre- and post-capture surveys. Specific goals of the research are to: (1) evaluate dolphin health from individual, population, and comparative perspectives, (2) apply classical and novel methods and diagnostic tools to detect and assess anthropogenic and environmental factors that affect dolphins, and (3) develop predictive models to evaluate conservation and management strategies. The permit would be valid for a period of five years.

Concurrent with the publication of this notice in the Federal Register, NMFS is forwarding copies of the application to the Marine Mammal Commission and its Committee of Scientific Advisors.

Dated: May 15, 2009.
P. Michael Payne,
Chief, Permits, Conservation and Education Division, Office of Protected Resources, National Marine Fisheries Service.

[FR Doc. E9-11782 Filed 5-19-09; 8:45 am]

BILLING CODE 3510-22-S